DEPARTMENT OF HOMELAND SECURITY

Federal Emergency Management Agency

44 CFR Part 65

[Docket ID FEMA-2011-0002; Internal Agency Docket No. FEMA-B-1177]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
California:
Contra Costa | City of Oakley (10-09-3624P) | December 8, 2010; December 15, 2010; The Contra Costa Times | The Honorable Jim Frazier, Mayor, City of Oakley, 3231 Main Street, Oakley, CA 94561 | December 24, 2010 | 060766
Ventura | Unincorporated areas of Ventura County (10-09-3055P) | December 24, 2010; December 31, 2010; The Ventura County Star | Ms. Kathy Long, Chair, Ventura County Board of Supervisors, 800 South Victoria Avenue, Ventura, CA 93009 | May 2, 2011 | 060413
Colorado:
El Paso | Unincorporated areas of El Paso County (10-08-0838P) | December 22, 2010; December 29, 2010; The El Paso County Advertiser and News | Mrs. Amy Lathen, Chair, El Paso County Board of Commissioners, 27 East Vermijo Avenue, 3rd floor, Colorado Springs, CO 80903 | April 28, 2011 | 080059
Jefferson | City of Lakewood (11-08-0033P) | December 9, 2010; December 16, 2010; The Golden Transcript | The Honorable Bob Murphy, Mayor, City of Lakewood, Lakewood Civic Center South, 480 South Allison Parkway, Lakewood, CO 80226 | December 6, 2010 | 085075
Florida:
Clay | Unincorporated areas of Clay County (10-04-6297P) | December 17, 2010; December 24, 2010; The Florida Times-Union | Mr. Travis Cummings, Chairman, Clay County Board of Commissioners, P.O. Box 1366, Green Cove Springs, FL 32043 | December 9, 2010 | 120064
Duval | City of Jacksonville (10-04-6297P) | December 17, 2010; December 24, 2010; The Florida Times-Union | The Honorable John Peyton, Mayor, City of Jacksonville, 117 West Duval Street, Jacksonville, FL 32202 | December 9, 2010 | 120077
Lee | City of Sanibel (10-04-5333P) | December 29, 2010; January 5, 2011; The News-Press | The Honorable Kevin Ruane, Mayor, City of Sanibel, 800 Dunlop Road, Sanibel, FL 33957 | December 21, 2010 | 120402
Volusia | City of Daytona Beach (10-04-6547P) | December 27, 2010; January 3, 2011; The Daytona Beach News-Journal | The Honorable Glenn Ritchey, Mayor, City of Daytona Beach, 301 South Ridgewood Avenue, Daytona Beach, FL 32114 | December 20, 2010 | 125099
Georgia:
Coweta | City of Senoia (11-04-0184P) | December 16, 2010; December 23, 2010; The Times-Herald | The Honorable Robert K. Belisle, Mayor, City of Senoia, P.O. Box 310, Senoia, GA 30276 | April 22, 2011 | 130301
Douglas | Unincorporated areas of Douglas County (10-04-4871P) | December 24, 2010; December 31, 2010; The Douglas County Sentinel | Mr. Tom Worthan, Chairman, Douglas County Board of Commissioners, 8700 Hospital Drive, Douglasville, GA 30134 | May 2, 2011 | 130306
North Carolina: Macon | Town of Franklin (10-04-8305P) | December 15, 2010; December 22, 2010; The Franklin Press | The Honorable Joe Collins, Mayor, Town of Franklin, P.O. Box 1479, Franklin, NC 28734 | December 8, 2010 | 375350
Pennsylvania:
Adams | Township of Latimore (10-03-2196P) | December 23, 2010; December 30, 2010; The Gettysburg Times | Mr. Dan Worley, Chairman, Township of Latimore Board of Supervisors, 559 Old U.S. Route 15, York Springs, PA 17372 | December 15, 2010 | 421162
Adams | Township of Reading (10-03-2196P) | December 23, 2010; December 30, 2010; The Gettysburg Times | Mr. Bob Zangueneh, Chairman, Township of Reading Board of Supervisors, 50 Church Road, East Berlin, PA 17316 | December 15, 2010 | 420004
South Carolina: Dorchester | Unincorporated areas of Dorchester County (10-04-7426P) | November 3, 2010; November 10, 2010; The Post and Courier | Mr. Larry Hargett, Chair, Dorchester County Council, 201 Johnson Street, St. George, SC 29477 | March 10, 2011 | 450068
Texas: Collin | City of Plano (10-06-1746P) | December 9, 2010; December 16, 2010; The Plano Star Courier | The Honorable Phil Dyer, Mayor, City of Plano, 1520 Avenue K, Plano, TX 75086 | April 15, 2011 | 480140
Utah: Salt Lake | City of West Jordan (10-08-0678P) | December 16, 2010; December 23, 2010; The Salt Lake Tribune | The Honorable Melissa K. Johnson, Mayor, City of West Jordan, 8000 South Redwood Road West Jordan, UT 84088 | April 22, 2011 | 490108
Wyoming:
Laramie | City of Cheyenne (10-08-0553P) | December 8, 2010; December 15, 2010; The Wyoming Tribune-Eagle | The Honorable Richard Kaysen, Mayor, City of Cheyenne, 2101 O'Neil Avenue, Room 310, Cheyenne, WY 82001 | April 14, 2011 | 560030
Laramie | Unincorporated areas of Laramie County (10-08-0553P) | December 8, 2010; December 15, 2010; The Wyoming Tribune-Eagle | Ms. Diane Humphrey, Chair, Laramie County Board of Commissioners, 310 West 19th Street, Suite 300, Cheyenne, WY 82001 | April 14, 2011 | 560029

(Catalog of Federal Domestic Assistance No. 97.022, “Flood Insurance.”)

Dated: February 1, 2011.
Edward L. Connor,
Acting Federal Insurance and Mitigation Administrator, Department of Homeland Security, Federal Emergency Management Agency.

[FR Doc. 2011-3423 Filed 2-15-11; 8:45 am]

BILLING CODE 9110-12-P